DEPARTMENT OF HOUSING AND URBAN DEVELOPMENT

[Docket No. FR-5041-N-11]

Notice of Proposed Information Collection: Comment Request; Single Family Property Disposition and Acquisition (Conveyance) of Mortgaged Properties

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: June 16, 2006.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8003, Washington, DC 20410 or Lilllian_Deitzer@hud.gov.

FOR FURTHER INFORMATION CONTACT: James Everett, Office of Single Family Asset Management, Department of Housing and Urban Development, 451 7th Street SW., Washington, DC 20410, telephone (202) 708-0614 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Single Family Property Disposition and Acquisition (Conveyance) of Mortgaged Properties.

OMB Control Number, if applicable: 2502-0306.

Description of the need for the information and proposed use: HUD collects information to determine the condition of the property upon conveyance, to determine the results of the repair contracts, and to monitor the contractor's performance in maintaining the properties. The sales contracts will be used as binding contracts between the purchaser and HUD. In addition, HUD requires information regarding HUD-owned single family properties purchased by local governments through the $Home Sales Program. There are two new forms dealing with the disposition of HUD-owned properties that are financed with HUD's 203(k) program of rehabilitation.

Agency form numbers, if applicable: HUD-9516-A, HUD 9519, HUD-9519-A, HUD-9544, HUD-9548, HUD-9548-A, HUD-9548-B, HUD-9548-C, HUD-9548-D, HUD-9548-E, HUD-9548-F, HUD-9548-G, HUD-9548-H, HUD-9549, HUD-9549-A, HUD-9549-B, HUD-9549-C, HUD-9549-D, and HUD-9549-E.

Estimation of the total numbers of hours needed to prepare the information collection including number of respondents, frequency of response, and hours of response: The estimated number of burden hours needed to prepare the information collection is 102,632 hours; the number of respondents is 13,735 generating approximately 348,439 annual responses; the frequency of response is on occasion; and the estimated time needed to prepare the response varies from two minutes to one hour per response.

Status of the proposed information collection: This is a revision of a currently approved collection.

Authority: The Paperwork Reduction Act of 1995, 44 U.S.C., Chapter 35, as amended.

Dated: April 11, 2006.
Frank L. Davis,
General Deputy Assistant Secretary for Housing, Deputy Federal Housing Commissioner.

[FR Doc. E6-5669 Filed 4-14-06; 8:45 am]

BILLING CODE 4210-67-P